DEPARTMENT OF LABOR

Employment and Training Administration

Notice of Determinations Regarding Eligibility to Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of May 2004.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A) (I.C.) (increased imports) and (a)(2)(B) (II.B) (No shift in production to a foreign country) have not been met.

TA-W-54,745; Chart Industries, Inc., Chart Storage Systems Div., Plaistow, NH

TA-W-54,103; Kulicke & Soffa Industries, Inc., Willow Grove Division, Willow Grove, PA

TA-W-54,747; Kyocera America, Inc., Beaverton, OR

TA-W-54,723; Somerset Consolidated Industries, Inc., New Castle Foundry Co., New Castle, PA

TA-W-54,470; Biolab, Inc., West Lake, LA

TA-W-54,427; Huntington Steel Corp., Warren, MI

TA-W-54,725; Pristech Products, Inc., formerly Prism Enterprises Services, including leased workers of Link Staffing Services, San Antonio, TX

TA-W-54,782; B.J. Cutting, a subsidiary of Lawrence Stevens Fashions, Ltd, Hazleton, PA

TA-W-54,414; Affiliated Computer Services, Inc., Employed at Cummins, Inc., Columbus, IN

TA-W-54,746; Eureka Security Printing, Jessup, PA

TA-W-54,680; Grand Valley Manufacturing, Titusville, PA

The workers firm does not produce an article as required for certification under section 222 of the Trade Act of 1974.

TA-W-54,732; M C I, Niles Call Center, Niles, OH

TA-W-54,708; Novellus Systems, Inc., Software Quality Assurance Group, San Jose, CA

TA-W-54,695; C-Cor Corp., Repair Services Department, Meriden, CT

TA-W-54,875; Thomson, In., American Tube Operations, Dunmore, PA

TA-W-54,612; CCC Information Services, Inc., a subsidiary of CCC Information Services Group, Inc., Chicago, IL

TA-W-54,929; Toko American, Inc., a subsidiary of Toko, Inc., Huntsville, AL

TA-W-54,434; Gale Group, a div. of The Thomson Corp., Belmont, CA

TA-W-54,764; GE Commercial Distribution Finance (CDF). A div. of GE Commercial Finance, St. Louis, MO

TA-W-54,923; Teleplan, Austin, TX

TA-W-54,327; Lucent Technologies, Inc., Lucent Worldwide Services (LWS), Downers Grove—Engineering, Downers Grove, IL

TA-W-54,631; IBM Corp., Personal Systems Group, Integrated Supply Chain Div., Research Triangle Park, NC

TA-W-54,476; Tekmatex, Inc., a wholly owned subsidiary of Marubeni America Corp., Charlotte, NC

TA-W-54,307; Solectron, Cypress, CA

TA-W-54,773; Inovis, Inc., Northfield, MI

TA-W-54,798; B & B Packing Workshop, Strong, ME

TA-W-54,949; Wakeman Oil Co., Inc., Wakeman, OH

TA-W-54,267; Lucent Technologies, Inc., Engineering Department, Alpharetta, GA

The investigation revealed that criterion (a)(2)(A)(I.A) (no employment decline) has not been met.

TA-W-54,544; Don Evans, Inc., d/b/a Evco Plastics, Tool Room Division, Reno NV

TA-W-54,709; Summitville Tiles, Inc., Minerva, OH

The investigation revealed that criterion (a)(2)(A) (I.A) (no employment decline) has not been met and (a) (2)(B) (II.B) (has shifted production to a county not under the free trade agreement with U.S.) have not been met.

TA-W-54,679; Magnum Plastics, Inc., Erie, CO

The investigation revealed that criteria (a)(2)(A) (I.B) (Sales or production, or both, did not decline) and (a) (2)(B)(II.B) (has shifted production to a county not under the free trade agreement with U.S.) have not been met.

TA-W-54,856; Capitol Records, Inc., Subsidiary of EMI Group, PLC, EMI Customer Fulfillment Operations, including leased workers of Adecco, Jacksonville, IL

The investigation revealed that criteria (a)(2)(A)(I.C) (increased imports) and (a)(2)(B)(II.C) (has shifted production to a foreign country) have not been met.

TA-W-54,720; Texon, USA, Russell, MA

Affirmative Determinations for Worker Adjustment Assistance

The following certifications have been issued; the date following the company name and location of each determination references the impact date for all workers of such determination.

The following certifications have been issued. The requirements of (a)(2)(A) (increased imports) of section 222 have been met.

TA-W-54,712; Gemeinhardt Co., Elkhart, IN: April 12, 2003.

TA-W-54,907; Ponsleep Products, Inc., Compton, CA: May 6, 2003.

TA-W-54,424; FSI International, Inc., including leased workers at Spherion, Aerotek and Prostaff, Chaska, MN: March 3, 2003.

TA-W-54,772; Metzeler Automotive Profile Systems, Iowa Div., Keokuk, IA: April 19, 2003.

TA-W-54,663; New Castle Battery Manufacturing Co., New Castle, PA: April 2, 2003.

TA-W-54,647; Ormet Primary Aluminum Corp., a subsidiary of Ormet Corp., Hanibal Reduction Div., Hannibal, OH: March 31, 2003.

TA-W-54,882; Interface Fabrics Elkin, Inc., d/b/a/ Intek, a subsidiary of Interface, Inc., Aberdeen, NC: May 5, 2003.

TA-W-54,664; Luisa's Sportswear, a div. of Slarama, Inc., New Bedford, MA: April 1, 2003.

TA-W-54,784; Security Forces, Inc., Employed at Georgetown Steel Co., LLC, Georgetown, SC: April 26, 2003.

TA-W-54,883; Westpoint Stevens, Inc., Drakes Branch, VA: April 28, 2003.

TA-W-54,753; American Furniture Co., Inc., a division of La-Z-Boy, Inc., including leased workers of Ameristaff and Randstad, Martinsville, VA: April 19, 2003.

TA-W-54,736; Tee Jays Manufacturing Co., Plant 5, Florence, AL: April 15, 2003.

TA-W-54,775; Avondale Mills, Inc., Walton Plant, Monroe, GA: April 23, 2003.

TA-W-54,902; Solutia, Inc., Sauget, IL: May 11, 2003.

TA-W-54,812; Vesuvius USA, Altoona, PA: April 28, 2003.

TA-W-54,445; Scholle Corp., Scholle Custom Packaging, Manistee, MI: March 5, 2003.

TA-W-54,508; Hoover-Hanes Rubber Custom Mixing, a div. of RBX Industries, Tallapoosa, GA: March 3, 2003.

TA-W-54,514; Video Products Group, Inc., Camarillo, CA: March 4, 2003.

TA-W-54,729; Piedmont Industries, Inc., Hickory Plant, Hickory, NC: April 8, 2003.

TA-W-54,894; Royce Hosiery, LLC, Martinsburg, WV: May 11, 2003.

TA-W-54,586; Brothers Manufacturing, Inc., Hermansville, MI: March 22, 2003.

TA-W-54,722; Stefanie Fashions, Jersey City, NJ: April 14, 2003.

TA-W-54,819; RHE Hatco, Inc., Stetson Harts Div., a subsidiary of Arena Brands, Inc., St. Joseph, MO: April 26, 2003.

TA-W-54,749; Fellowes, Inc., Wire Office and Desk Accessories Div., Belcamp, MD: March 25, 2003.

The following certifications have been issued. The requirements of (a)(2)(B) (shift in production) of section 222 have been met.

TA-W-54,918; Invensys Appliance Controls, North Manchester, IN: May 14, 2003.

TA-W-54,912; DeRoyal Ind., Inc., Patient Care Div., Dryden, VA: April 26, 2003.

TA-W-54,852; Pennaco Hosiery, a subsidiary of Danskin, Inc., Grenada, MS: April 23, 2003.

TA-W-54,845; Carhartt, Inc., Madisonville Cutting Facility, Madisonville, KY: May 4, 2003.

TA-W-54,716; Kellogg Crankshaft, Jackson, MI: April 6, 2003.

TA-W-54,754; M. Stephens Manufacturing Co., Cudahy, CA: April 14, 2003.

TA-W-54,823; Ehlert Tool Co., Inc., New Berlin, WI: April 30, 2003.

TA-W-54,822; Honeywell International, Consumer Products Group, including leased workers of Manpower, Clearfield, UT: April 9, 2003.

TA-W-54,489; Plastic Research and Development, a subsidiary of EBSCO Industries, Inc., Fort Smith, AR: March 11, 2003.

TA-W-54,659; Sara Lee Branded Apparel, Sportswear Div., Martinsville, VA: March 22, 2003.

TA-W-54,701; Viratec Thin Films, I-5 LISEC Div., Faribault, MN: April 7, 2003.

TA-W-54,848; OshKosh B'Gosh, Inc., Research and Development Department, OshKosh, WI: May 4, 2003.

TA-W-54,826; First Technology, Inc., Control Devices, Caribou, ME: April 7, 2003.

TA-W-54,813; W L Jacquard LLC, Jacquard Div., Cliffside, NC: April 29, 2003.

TA-W-54,571; New Era Die Co., Red Lion, PA: March 16, 2003.

TA-W-54,790; Bourns Microelectronics, Inc., a subsidiary of Bourns, Inc., New Berlin, WI: April 26, 2003.

TA-W-54,737; General Electric Electromaterials, Coshocton, OH: March 31, 2003.

TA-W-54,728; Weiser Lock, a div. of Black and Decker Corp., Tucson, AZ: February 9, 2003.

TA-W-54,726; Sanford Corp., a subsidiary of Newell Rubbermaid, Business-to-Business Div., Pen Assembly Line, Janesville, WI: April 14, 2003.

TA-W-54,928; CNH America, LLC, a subsidiary of CNH Global, NV, including leased workers from Kelly Services, Racine, WI: May 17, 2003.

The following certification has been issued. The requirement of upstream supplier to a trade certified primary firm has been met.

TA-W-54,893; Northest Composites, Inc., Marysville, WA: May 4, 2003.

TA-W-54,576; Rogers Corp., Elastomer Components Div., South Windham, CT: January 22, 2003.

Negative Determinations for Alternative Trade Adjustment Assistance

In order for the Division of Trade Adjustment Assistance to issued a certification of eligibility to apply for Alternative Trade Adjustment Assistance (ATAA) for older workers, the group eligibility requirements of section 246(a)(3)(A)(ii) of the Trade Act must be met.

In the following cases, it has been determined that the requirements of section 246(a)3)ii) have not been met for the reasons specified.

The Department as determined that criterion (1) of section 246 has not been met. Workers at the firm are 50 years of age or older.

TA-W-54,664; Luisa's Sportswear, a div. of Slarama, Inc., New Bedford, MA

TA-W-54,784; Security Forces, Inc., Employed at Georgetown Steel Co., LLC, Georgetown, SC

The Department as determined that criterion (3) of section 246 has not been met. The competitive conditions within the workers' industry is adverse.

TA-W-54,928; CNH America, LLC., a subsidiary of CNH Global, NV, including leased workers from Kelly Services, Racine, WI

The Department as determined that criterion (2) of section 246 has not been met. Workers at the firm possess skills that are easily transferable.

TA-W-54,907; Ponsleep Products, Inc., Compton, CA

TA-W-54,424; FSI International, Inc., including leased workers at Spherion, Aerotek and Prostaff, Chaska, MN

TA-W-54,772; Metzeler Automotive Profile Systems, Iowa Div., Keokuk, IA

TA-W-54,663; New Castle Battery Manufacturing Co., New Castle, PA

TA-W-54,647; Ormet Primary Aluminum Corp., a subsidiary of Ormet Corp., Hanibal Reduction Div., Hannibal, OH

TA-W-54,882; Interface Fabrics Elkin, Inc., d/b/a Intek, a subsidiary of Interface, Inc., Aberdeen, NC

Since the workers are denied eligibility to apply for TAA, the workers cannot be certified eligible for ATAA.

TA-W-54,631; IBM Corp., Personal Systems Group, Integrated Supply Chain Div., Research Triangle Park, NC

TA-W-54,476; Tekmatex, Inc., a wholly owned subsidiary of Marubeni America Corp., Charlotte, NC

TA-W-54,307; Solectron, Cypress, CA

TA-W-54,773; Inovis, Inc., Northfield, MI

TA-W-54,798; B & B Packing Workshop, Strong, ME

TA-W-54,949; Wakeman Oil Co., Inc., Wakeman, OH

TA-W-54,267; Lucent Technologies, Inc., Engineering Department, Alpharetta, GA

TA-W-54,856; Capitol Records, Inc., Subsidiary of EMI Group PLC, EMI Customer Fulfillment Operations, Including leased workers of Adecco, Jacksonville, IL

TA-W-54,720; Texon USA, Russell, MA

TA-W-54,747; Kyocera America, Inc., Beaverton, OR

TA-W-54,723; Somerset Consolidated Industries, Inc., New Castle Foundry Co., New Castle, PA

TA-W-54,470; Biolab, Inc., West Lake, LA

TA-W-54,427; Huntington Steel Corp., Warren, MI

TA-W-54,725; Pristech Products, Inc., formerly Prism Enterprises Services, including leased workers of Link Staffing Services, San Antonio, TX

TA-W-54,782; B.J. Cutting, a subsidiary of Lawrence Stevens Fashions, Ltd, Hazleton, PA

TA-W-54,414; Affiliated Computer Services, Inc., Employed at Cummins, Inc., Columbus, IN

TA-W-54,746; Eureka Security Printing, Jessup, PA

TA-W-54,709; Summitville Tiles, Inc., Minerva, OH

TA-W-54,680; Grand Valley Manufacturing, Titusville, PA

Affirmative Determinations for Alternative Trade Ajdustment Assistance

In order for the Division of Trade Adjustment Assistance to issued a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

TA-W-54,749; Fellowes, Inc., WireOffice and Desk Accessories Div., Belcamp, MD: March 25, 2003.

TA-W-54,819; RHE Hatco, Inc., Stetson Hats Div., a subsidiary of Arena Brands, Inc., including leased workers from The Staffing Center, Inc., St. Joseph, MO: April 26, 2003.

TA-W-54,722; Stefanie Fashions, Jersey City, NJ: April 14, 2003.

TA-W-54,586; Brothers Manufacturing, Inc., Hermansville, MI: March 22, 2003.

TA-W-54,894; Royce Hosiery, LLC, Martinsburg, WV: May 11, 2003.

TA-W-54,729; Piedmont Industries, Inc., Hickory Plant, Hickory, NC: April 8, 2003.

TA-W-54,514; Video Products Group, Inc., Camarillo, CA: March 4, 2003.

TA-W-54,508; Hoover-Hanes Rubber Custom Mixing, a div. of RBX Industries, Tallapoosa, GA: March 3, 2003.

TA-W-54,902; Solutia, Inc., Sauget, IL: May 11, 2003.

TA-W-54,812; Vesuvius USA, Altoona, PA: April 28, 2003.

TA-W-54,445; Scholle Corp., Scholle Custom Packaging, Manistee, MI: March 5, 2003.

TA-W-54,775; Avondale Mills, Inc., Walton Plant, Monroe, GA: April 23, 2003.

TA-W-54,736; Tee Jay's Manufacturing Co., Plant 5, Florence, AL: April 15, 2003.

TA-W-54,726; Sanford Corp., a subsidiary of Newell Rubbermaid, Business-To-Business Division, Pen Assembly Line, Janesville, WI: April 14, 2003.

TA-W-54,728; Weiser Lock, a div. of Black and Decker Corp., Tucson, AZ: February 9, 2003.PL Subsidiary, Inc., Winder, GA: March 29, 2003.

TA-W-54,737; General Electric Electromaterials, Coshocton, OH: March 31, 2003.

TA-W-54,571; New Era Die Co., Red Lion, PA: March 16, 2003.

TA-W-54,813; W L Jacquard, LLC, Jacquard Div., Cliffside, NC: April 29, 2003.

TA-W-54,826; First Technology, Inc., Control Devices, Caribou, ME: April 7, 2003.

TA-W-54,848; OshKosh B'Gosh, Inc., Research and Development Department, OshKosh, WI: May 4, 2003.

TA-W-54,716; Kellogg Crankshaft, Jackson, MI: April 6, 2003.

TA-W-54,701; Viratec Thin Films, I-5 Lisec Div., Faribault, MN: April 7, 2003.

TA-W-54,659; Sara Lee Branded Apparel, Sportswear Div., Martinsville, VA: March 22, 2003.

TA-W-54,489; Plastic Research and Development, a subsidiary of SBSCO Industries, Inc., Fort Smith, AR: March 11, 2003.

TA-W-54,822; Honeywell International, Consumer Products Group, including leased workers of Manpower, Clearfield, UT: April 9, 2003.

TA-W-54,823; Ehlert Tool Company, Inc., New Berlin, WI: April 30, 2003.

TA-W-54,754; M. Stephens Manufacturing Co., Cudahy, CA: April 14, 2003.

TA-W-54,845; Carhartt, Inc., Madisonville Cutting Facility, Madisonville, KY: May 4, 2003.

TA-W-54,852; Pennaco Hosiery, a subsidiary of Danskin, Inc., Grenada, MS: April 23, 2003.

TA-W-54,912; DeRoyal Ind., Inc., Patient Care Div., Dryden, VA: April 26, 2003.

TA-W-54,576; Rogers Corp., Elastomer Components Div., South Windham, CT: January 22, 2003.

I hereby certify that the aforementioned determinations were issued during the months of May 2004. Copies of these determinations are available for inspection in Room C-5311, U.S. Department of Labor, 200 Constitution Avenue, NW., Washington, DC 20210 during normal business hours or will be mailed to persons who write to the above address.

Dated: June 9, 2004.
Timothy Sullivan,
Director, Division of Trade Adjustment Assistance.

[FR Doc. 04-13597 Filed 6-16-04; 8:45 am]

BILLING CODE 4510-30-P